DEPARTMENT OF THE INTERIOR

Bureau of Land Management

[BLM_MT_FRN_MO4500179599]

Public Meeting of the Western Montana Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Western Montana Resource Advisory Council (Council) will meet as follows.

DATES: The Council will participate in a field tour on June 26, 2024, from 12 p.m. to 4 p.m. mountain time (MT) and hold a business meeting on June 27, 2024, from 9 a.m. to 4 p.m. MT in Missoula, Montana. A virtual participation option will be available on June 27, 2024. Individuals who want to participate virtually must register at least 1 week in advance of the meeting to allow the BLM to plan for the number of individuals who wish to participate.

ADDRESSES: The meeting will be held, and the field tour will commence and conclude, at the Holiday Inn, 200 South Pattee, Missoula, MT 59802. The final agenda and virtual participation instructions will be confirmed for the public via BLM news release, social media, on the Council's web page at https://www.blm.gov/get-involved/resource-advisory-council/near-you/montana-dakotas/western-montana-rac, and through personal contact at least 2 weeks prior to the meeting.

Written comments for the Council may be sent electronically in advance of the scheduled meeting to Public Affairs Specialist David Abrams at dabrams@blm.gov, or in writing to BLM Western Montana District/Public Affairs, 101 N Parkmont, Butte, MT 59701.

FOR FURTHER INFORMATION CONTACT: David Abrams, BLM Western Montana District Office, telephone: (406) 437-2562, email: dabrams@blm.gov. Individuals in the United States who are deaf, deafblind, hard of hearing, or have a speech disability may dial 711 (TTY, TDD, or TeleBraille) to access telecommunications relay services for contacting Mr. Abrams. Individuals outside the United States should use the relay services offered within their country to make international calls to the point-of-contact in the United States.

SUPPLEMENTARY INFORMATION: The Council provides recommendations to the Secretary of the Interior concerning the planning and management of the public land resources located within the BLM's Western Montana District. The June 26, 2024, field tour will travel to points of interest within the Missoula Field Office. Members of the public are welcome on the field tour but must provide their own transportation and meals. Agenda topics for the June 27, 2024, meeting include a report from the Madison River Fee Proposal Subcommittee, and presentations on wildlife migration corridors, the Grizzly Bear Food Storage Order, and other resource management issues the Council may raise.

The meeting and field tour are open to the public and a 30-minute public comment period will be offered at 3:15 p.m. MT during the June 27, 2024, meeting. Depending on the number of persons wishing to speak and the time available, the amount of time for oral comments may be limited.

Please make requests in advance for sign language interpreter services, assistive listening devices, or other reasonable accommodations. We ask that you contact the person listed in the FOR FURTHER INFORMATION CONTACT section of this notice at least 7 business days prior to the meeting to give the BLM sufficient time to process your request. All reasonable accommodation requests are managed on a case-by-case basis.

Before including your address, phone number, email address, or other personal identifying information in written comments, you should be aware that your entire comment—including your personal identifying information—may be made publicly available at any time. While you can ask us in your comment to withhold your personal identifying information from public review, we cannot guarantee that we will be able to do so. While the meeting is scheduled from 9 a.m. to 4 p.m. MT, it may end earlier or later depending on the needs of group members. Therefore, members of the public interested in a specific agenda item or discussion should schedule their arrival accordingly.

Detailed minutes for Council meetings will be maintained in the BLM Western Montana District Office. Minutes will also be posted to the Council's web page at https://www.blm.gov/get-involved/resource-advisory-council/near-you/montana-dakotas/western-montana-rac.

(Authority: 43 CFR 1784.4-2)

Kathryn Stevens,
Western Montana BLM District Manager.

[FR Doc. 2024-10917 Filed 5-16-24; 8:45 am]

BILLING CODE 4331-20-P